DEPARTMENT OF HOMELAND SECURITY

Bureau of Citizenship and Immigration Services

[BCIS No. 2207-02]

Redesign of Form I-327, Permit to Reenter the United States, and Form I-571, Refugee Travel Document

AGENCY: Bureau of Citizenship and Immigration Services, U.S. Department of Homeland Security.

ACTION: Notice.

SUMMARY: This notice announces that during fiscal year 2003 the Bureau of Citizenship and Immigration Services (BCIS) will begin issuing a new single passport-style travel document that, depending on the circumstances, will either contain the Form I-327, Permit to Reenter the United States, or Form I-571, Refugee Travel Document. Development of the redesigned travel document is intended to reduce production time, improve customer service and strengthen the booklet's security features. Enhanced technologies, similar to those used in the production of the United States Passport, will be employed in printing the BCIS travel document to prevent counterfeiting, tampering and other fraudulent schemes. The new document will be produced at the BCIS Nebraska Service Center in Lincoln, NE, where the two separate travel booklets are currently prepared. On March 1, 2003, the Immigration and Naturalization Service (INS) transferred from the Department of Justice to the Department of Homeland Security (DHS), pursuant to the Homeland Security Act of 2002 (Pub. L. 107-296). The INS adjudications functions transferred to the Bureau of Citizenship and Immigration Services of DHS.

DATES: This notice is effective July 30, 2003.

FOR FURTHER INFORMATION CONTACT: Sandra Schatz Landis, Chief, Immigration Card Production Services (ICPS) Branch, Bureau of Citizenship and Immigration Services, 800 K Street, Room 1000, Washington, DC 20536, telephone (202) 305-8010.

SUPPLEMENTARY INFORMATION:

Background

Who Uses the Forms I-327 and I-571?

Form I-327, Permit to Reenter the United States. The Form I-327 allows a lawful permanent or conditional permanent resident of the United States to apply for admission into the United States upon returning from abroad without having to obtain a returning resident visa.

Form I-571, Refugee Travel Document. A refugee travel document is issued pursuant to Article 28 of the United Nations Convention of July 29, 1951, for the purpose of travel. It may be issued to a person who is in the United States as a refugee pursuant to section 207 of the Immigration and Nationality Act (Act), as an asylee pursuant to section 208 of the Act, or as a permanent resident who received such status as a direct result of refugee or asylee status. A lawfully obtained, currently valid Form I-571, shall be accepted in lieu of any travel document which otherwise would be required from such person under the Act.

How Can a Person Apply for Forms I-327 or I-571?

An application for a Form I-327 or Form I-571 must be filed on Form I-131, Application for Travel Document, with the fee as required in 8 CFR 103.7(b)(1) and with the initial evidence required on the application form. The applicant must state the length of intended absence or absences, and the reasons for travel. Except as provided in 8 CFR 223.2(b)(2)(ii), the application may be approved if filed by an eligible person who is within the United States at the time of submission.

Will the fee For Filing Form I-131 Change?

Until the BCIS conducts a new fee study, the current fee of $110 will not change as a result of issuing the single passport-style travel document.

Where Should the Form I-131 Be Filed?

Applicants must file the application according to the instructions on Form I-131 at the Nebraska Service Center.

May an Applicant Request Expedited Processing of the Travel Document in an Emergency?

To deal fairly and equitably with applicants for travel documents, it is BCIS policy that cases be processed in chronological order by date of receipt.

However, an exception may be permitted in emergency situations if the request is approved by the Nebraska Service Center director, deputy director or an official acting in such capacity.

How Does the BCIS Plan To Implement the Production of the New Travel Document?

The document will be produced at the Nebraska Service Center where the separate travel booklets are now prepared.

What Will the New Travel Document Look Like?

Other than a new light green cover, the redesigned travel document will look similar to a United States Passport. The title, “Travel Document Issued by the U.S. Department of Homeland Security, Bureau of Citizenship and Immigration Services,” will appear on the front cover. The type of travel document issued will appear on the inside page of the front cover, showing either Form I-327, Permit to Reenter the United States, or Form I-571, Refugee Travel Document. Biographical information and a photograph related to the approved applicant that appears on the current Forms I-327 or I-571 will also be shown in the new travel document. The remaining pages will look similar to the current Forms I-327 and I-571.

How Will the Travel Document Be Issued?

Once the appropriate travel document is produced, the Nebraska Service Center will mail it to the approved applicant according to his or her instructions.

Except as provided in 8 CFR 223.3(b)(2), while an applicant must be physically present in the United States at the time of filing, the Nebraska Service Center may mail the travel document in care of a United States embassy or consulate or a BCIS overseas office, if the applicant requests such service at the time of filing.

What Is the Validity of the Travel Document?

Permit To Reenter the United States. Except as provided in 8 CFR 223.2(c)(2), Form I-327 issued to a Permanent Resident shall be valid for 2 years from the date of issuance. Form I-327 issued to a conditional permanent resident shall be valid for 2 years from the date of issuance, or until the date the conditional permanent resident must apply for removal of the conditions on his or her status, whichever date is earlier.

Refugee travel document. Form I-571 shall be valid for one year, or until the date the refugee or asylee status expires, whichever date is earlier.

Will Those Who Possess Unexpired Forms I-327 or I-571 Be Required To Apply for a New Travel Document When BCIS Starts Producing the Newly Designed Document?

No. Authorized users may continue to travel on their previously issued Form I-327 or Form I-571 until its expiration date. If an applicant applies thereafter for a travel document, he or she will be issued the newly designed document.

Can a Travel Document Be Extended?

No. A permit to reenter the United States or refugee travel document cannot be extended.

Will the New Travel Document Affect the Process for Applying for Advance Parole?

No. Applicants will continue to use the Form I-131 to apply for advance parole. Upon BCIS approval of the application, a Form I-512, Authorization of Parole of an Alien Into the United States, shall be issued to the applicant.

Eduardo Aguirre, Jr.,
Acting Director, Bureau of Citizenship and Immigration Services.

[FR Doc. 03-19338 Filed 7-29-03; 8:45 am]

BILLING CODE 4410-10-P